Title 3—

The President

Executive Order 13978 of January 18, 2021

Building the National Garden of American Heroes

By the authority vested in me as President by the Constitution and the laws of the United States of America, it is hereby ordered as follows:

Section 1. Background. In Executive Order 13934 of July 3, 2020 (Building and Rebuilding Monuments to American Heroes), I made it the policy of the United States to establish a statuary park named the National Garden of American Heroes (National Garden). To begin the process of building this new monument to our country's greatness, I established the Interagency Task Force for Building and Rebuilding Monuments to American Heroes (Task Force) and directed its members to plan for construction of the National Garden. The Task Force has advised me it has completed the first phase of its work and is prepared to move forward. This order revises Executive Order 13934 and provides additional direction for the Task Force.

Sec. 2. Purpose. The chronicles of our history show that America is a land of heroes. As I announced during my address at Mount Rushmore, the gates of a beautiful new garden will soon open to the public where the legends of America's past will be remembered.

The National Garden will be built to reflect the awesome splendor of our country's timeless exceptionalism. It will be a place where citizens, young and old, can renew their vision of greatness and take up the challenge that I gave every American in my first address to Congress, to “[b]elieve in yourselves, believe in your future, and believe, once more, in America.”

Across this Nation, belief in the greatness and goodness of America has come under attack in recent months and years by a dangerous anti-American extremism that seeks to dismantle our country's history, institutions, and very identity. The heroes of 1776 have been desecrated, with statues of George Washington, Thomas Jefferson, and Benjamin Franklin vandalized and toppled. The dead who gave their lives to end slavery and save the Union during the Civil War have been dishonored, with monuments to Abraham Lincoln, Hans Christian Heg, and the courageous 54th Regiment left damaged and disfigured. The brave warriors who saved freedom from Nazi fascism have been disgraced with a memorial to World War II veterans defaced with the hammer and sickle of Soviet communism.

The National Garden is America's answer to this reckless attempt to erase our heroes, values, and entire way of life. On its grounds, the devastation and discord of the moment will be overcome with abiding love of country and lasting patriotism. This is the American way. When the forces of anti-Americanism have sought to burn, tear down, and destroy, patriots have built, rebuilt, and lifted up. That is our history. America responded to the razing of the White House by building it back in the same place with unbroken resolve, to the murders of Abraham Lincoln and Martin Luther King, Jr., with a national temple and the Stone of Hope, and to the terrorism of 9/11 with a new Freedom Tower. In keeping with this tradition, America is responding to the tragic toppling of monuments to our founding generation and the giants of our past by commencing a new national project for their restoration, veneration, and celebration.

The National Garden will draw together and fix in the soil of a single place what Abraham Lincoln called “[t]he mystic chords of memory, stretching from every battlefield, and patriot grave, to every living heart.” In the peace and harmony of this vast outdoor park, visitors will come and learn the amazing stories of some of the greatest Americans who have ever lived. The National Garden will feature a roll call of heroes who deserve honor, recognition, and lasting tribute because of the battles they won, the ideas they championed, the diseases they cured, the lives they saved, the heights they achieved, and the hope they passed down to all of us—that united as one American people trusting in God, there is no challenge that cannot be overcome and no dream that is beyond our reach.

In short, each individual has been chosen for embodying the American spirit of daring and defiance, excellence and adventure, courage and confidence, loyalty and love. Astounding the world by the sheer power of their example, each one of them has contributed indispensably to America's noble history, the best chapters of which are still to come.

Sec. 3. Honoring Additional American Heroes. (a) Section 3(c) of Executive Order 13934 is amended by striking the words “In addition to the requirements of subsection 3(b) of this order, the proposed options for the” and inserting in their place the word “The”.

(b) Section 3(c)(i) of Executive Order 13934 is amended to read as follows: “The National Garden should be composed of statues, including statues of Ansel Adams, John Adams, Samuel Adams, Muhammad Ali, Luis Walter Alvarez, Susan B. Anthony, Hannah Arendt, Louis Armstrong, Neil Armstrong, Crispus Attucks, John James Audubon, Lauren Bacall, Clara Barton, Todd Beamer, Alexander Graham Bell, Roy Benavidez, Ingrid Bergman, Irving Berlin, Humphrey Bogart, Daniel Boone, Norman Borlaug, William Bradford, Herb Brooks, Kobe Bryant, William F. Buckley, Jr., Sitting Bull, Frank Capra, Andrew Carnegie, Charles Carroll, John Carroll, George Washington Carver, Johnny Cash, Joshua Chamberlain, Whittaker Chambers, Johnny “Appleseed” Chapman, Ray Charles, Julia Child, Gordon Chung-Hoon, William Clark, Henry Clay, Samuel Clemens (Mark Twain), Roberto Clemente, Grover Cleveland, Red Cloud, William F. “Buffalo Bill” Cody, Nat King Cole, Samuel Colt, Christopher Columbus, Calvin Coolidge, James Fenimore Cooper, Davy Crockett, Benjamin O. Davis, Jr., Miles Davis, Dorothy Day, Joseph H. De Castro, Emily Dickinson, Walt Disney, William “Wild Bill” Donovan, Jimmy Doolittle, Desmond Doss, Frederick Douglass, Herbert Henry Dow, Katharine Drexel, Peter Drucker, Amelia Earhart, Thomas Edison, Jonathan Edwards, Albert Einstein, Dwight D. Eisenhower, Duke Ellington, Ralph Waldo Emerson, Medgar Evers, David Farragut, the Marquis de La Fayette, Mary Fields, Henry Ford, George Fox, Aretha Franklin, Benjamin Franklin, Milton Friedman, Robert Frost, Gabby Gabreski, Bernardo de Gálvez, Lou Gehrig, Theodor Seuss Geisel, Cass Gilbert, Ruth Bader Ginsburg, John Glenn, Barry Goldwater, Samuel Gompers, Alexander Goode, Carl Gorman, Billy Graham, Ulysses S. Grant, Nellie Gray, Nathanael Greene, Woody Guthrie, Nathan Hale, William Frederick “Bull” Halsey, Jr., Alexander Hamilton, Ira Hayes, Hans Christian Heg, Ernest Hemingway, Patrick Henry, Charlton Heston, Alfred Hitchcock, Billie Holiday, Bob Hope, Johns Hopkins, Grace Hopper, Sam Houston, Whitney Houston, Julia Ward Howe, Edwin Hubble, Daniel Inouye, Andrew Jackson, Robert H. Jackson, Mary Jackson, John Jay, Thomas Jefferson, Steve Jobs, Katherine Johnson, Barbara Jordan, Chief Joseph, Elia Kazan, Helen Keller, John F. Kennedy, Francis Scott Key, Coretta Scott King, Martin Luther King, Jr., Russell Kirk, Jeane Kirkpatrick, Henry Knox, Tadeusz Kościuszko, Harper Lee, Pierre Charles L'Enfant, Meriwether Lewis, Abraham Lincoln, Vince Lombardi, Henry Wadsworth Longfellow, Clare Boothe Luce, Douglas MacArthur, Dolley Madison, James Madison, George Marshall, Thurgood Marshall, William Mayo, Christa McAuliffe, William McKinley, Louise McManus, Herman Melville, Thomas Merton, George P. Mitchell, Maria Mitchell, William “Billy” Mitchell, Samuel Morse, Lucretia Mott, John Muir, Audie Murphy, Edward Murrow, John Neumann, Annie Oakley, Jesse Owens, Rosa Parks, George S. Patton, Jr., Charles Willson Peale, William Penn, Oliver Hazard Perry, John J. Pershing, Edgar Allan Poe, Clark Poling, John Russell Pope, Elvis Presley, Jeannette Rankin, Ronald Reagan, Walter Reed, William Rehnquist, Paul Revere, Henry Hobson Richardson, Hyman Rickover, Sally Ride, Matthew Ridgway, Jackie Robinson, Norman Rockwell, Caesar Rodney, Eleanor Roosevelt, Franklin D. Roosevelt, Theodore Roosevelt, Betsy Ross, Babe Ruth, Sacagawea, Jonas Salk, John Singer Sargent, Antonin Scalia, Norman Schwarzkopf, Junípero Serra, Elizabeth Ann Seton, Robert Gould Shaw, Fulton Sheen, Alan Shepard, Frank Sinatra, Margaret Chase Smith, Bessie Smith, Elizabeth Cady Stanton, Jimmy Stewart, Harriet Beecher Stowe, Gilbert Stuart, Anne Sullivan, William Howard Taft, Maria Tallchief, Maxwell Taylor, Tecumseh, Kateri Tekakwitha, Shirley Temple, Nikola Tesla, Jefferson Thomas, Henry David Thoreau, Jim Thorpe, Augustus Tolton, Alex Trebek, Harry S. Truman, Sojourner Truth, Harriet Tubman, Dorothy Vaughan, C. T. Vivian, John von Neumann, Thomas Ustick Walter, Sam Walton, Booker T. Washington, George Washington, John Washington, John Wayne, Ida B. Wells-Barnett, Phillis Wheatley, Walt Whitman, Laura Ingalls Wilder, Roger Williams, John Winthrop, Frank Lloyd Wright, Orville Wright, Wilbur Wright, Alvin C. York, Cy Young, and Lorenzo de Zavala.”

Sec. 4. Additional Amendments to Executive Order 13934. (a) Section 3(b) of Executive Order 13934 is amended to read as follows: “The Secretary, in consultation with the Task Force, shall identify a site suitable for the establishment of the National Garden. The Secretary shall proceed with construction of the National Garden at that site, to the extent consistent with the Secretary's existing authorities or authority later provided by the Congress.”

(b) Section 7 of Executive Order 13934 is amended to read as follows: “Definition. The term “historically significant American” means an individual who made substantive contributions to America's public life or otherwise had a substantive effect on America's history.”

Sec. 5. Funding. (a) The Secretary of the Interior shall provide funding, as appropriate and consistent with available appropriations and applicable law, for the establishment and maintenance of the National Garden.

(b) The Chairperson of the National Endowment for the Arts and the Chairperson of the National Endowment for the Humanities, in consultation with the National Council on the Arts and the National Council on the Humanities, respectively, and the Task Force, should target spending one-twelfth of the discretionary funds available to their agencies on commissioning statues of individuals set forth in section 3(c)(i) of Executive Order 13934, as amended by section 3(b) of this order, for placement in the National Garden, as appropriate and consistent with applicable law.

Sec. 6. Public Report. Until such time as the National Garden is established and includes statues of all individuals set forth in section 3(c)(i) of Executive Order 13934, as amended by section 3(b) of this order, the Task Force shall publish an annual public report describing progress on establishing the National Garden and on building statues of American heroes. This report shall include, as applicable, the steps the Task Force agencies have taken in the preceding year to prepare the National Garden to be opened for public access and listing all statues either commissioned for or placed in the National Garden.

Sec. 7. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

January 18, 2021.

[FR Doc. 2021-01643

Filed 1-21-21; 11:15 am]

Billing code 3295-F1-P